DEPARTMENT OF ENERGY

Federal Energy Regulatory Commission

[RP05-544-000 et al.]

CenterPoint Energy—Mississippi River Transmission Corporation et al., Notice of Proposed Changes in FERC Gas Tariff

September 2, 2005.

In the matter of: RP05-570-000, RP05-575-000, RP05-548-000, RP05-576-000, RP05-541-000, RP05-539-000, RP05-540-000, RP05-542-000, RP05-563-000, RP05-547-000, RP05-554-000, RP05-568-000, RP05-562-000, RP05-538-000, RP05-577-000, RP05-545-000, RP05-558-000, RP05-569-000, RP05-557-000, RP05-551-000, RP05-555-000, RP05-571-000, RP05-592-000, RP05-572-000, RP05-543-000, RP05-556-000, RP05-561-000, RP05-578-000, RP05-579-000: Chandeuleur Pipe Line Company, Colorado Interstate Gas Company, Eastern Shore Natural Gas Company, El Paso Natural Gas Company, Enbridge Pipelines (AlaTenn) L.L.C., Enbridge Pipelines (KPC), Enbridge Pipelines (Midla) L.L.C., Garden Banks Gas Pipeline, L.L.C., Guardian Pipeline, L.L.C., Kern River Gas Transmission Company, Kinder Morgan Interstate Gas Transmission LLC, KO Transmission Company, Midwestern Gas Transmission Company, Mississippi Canyon Gas Pipeline, LLC, Mojave Pipeline Company, Nautilus Pipeline Company, L.L.C., Northeast Pipeline Corporation, Ozark Gas Transmission, L.L.C., Panther Interstate Pipeline Energy, LLC., Questar Pipeline Company, Questar Southern Trails Pipeline Company, Sabine Pipe Line LLC, SCG Pipeline, Inc., Southern Star Central Gas Pipeline, Inc., Stingray Pipeline Company, L.L.C., TransColorado Gas Transmission Company, Viking Gas Transmission Company, Wyoming Interstate Company, Ltd., Young Gas Storage Company, Ltd.: Notice of Proposed Changes in FERC Gas Tariff.

Take notice that the above-referenced pipelines tendered for filing their tariff sheets respectively, pursuant to section 154.402 of the Commission's regulations, to reflect the Commission's change in the unit rate for the Annual Charge Adjustment (ACA) surcharge to be applied to rates for recovery of 2005 Annual Charges. The proposed effective date of the tariff sheets is October 1, 2005.

The above-referenced pipelines state that the purpose of their filings is to reflect the revised ACA effective for the twelve-month period beginning October 1, 2005. The pipelines further state that their tariff sheets reflect a decrease of $0.0001 per Dth in the ACA adjustment surcharge, resulting in a new ACA rate of $0.0018 Dth as specified by the Commission in its invoice dated June 30, 2005, for the Annual Charge Billing—Fiscal year 2005.

Due to the large number of pipelines that have filed to comply with the Annual Charge Adjustment Billing, the Commission is issuing this single notice of the filings. The filings issued are received are reflected in the caption of this notice.

Any person desiring to become part in any of the listed dockets must file a separate motion to intervene in each docket for which they wish party status.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Comment Date: 5 p.m. Eastern Time September 13, 2005.

Magalie R. Salas,
Secretary.

[FR Doc. E5-4911 Filed 9-8-05; 8:45 am]

BILLING CODE 6717-01-P